DEPARTMENT OF HEALTH AND HUMAN SERVICES

National Institutes of Health

Eunice Kennedy Shriver National Institute of Child Health and Human Development (NICHD); Notice of Meeting

Pursuant to the NIH Reform Act of 2006 (42 U.S.C. Sec. 281 (d)(4)), notice is hereby given that the Eunice Kennedy Shriver National Institute of Child Health and Human Development (NICHD) will host a meeting to enable public discussion of the Institute's proposal to reorganize its extramural program. The proposal seeks to capitalize on emerging scientific opportunities, while reducing barriers to scientific and interdisciplinary collaboration.

This public meeting will take place on March 7, 2012. Information is available on the Institute's Web site, http://www.nichd.nih.gov/about/meetings/2012/030712.cfm, where an agenda and any additional information for the meeting will be posted when available.

Organizing Institute: Eunice Kennedy Shriver National Institute of Child Health and Human Development.

Dates and Times: March 7, 2012, at 3 p.m.

Place: American Psychological Association, 750 First Street NE., 6th Floor Conference Room, Washington, DC 20002.

Agenda: A public discussion on the proposed reorganization plans for NICHD.

Contact Person: Lisa Kaeser, J.D., Eunice Kennedy Shriver National Institute of Child Health and Human Development, NIH, Office of Program and Public Liaison, 31 Center Drive, MSC 2425, Building 31, Room 2A03, Bethesda, MD 20892, 301-496-0536, kaeserl@mail.nih.gov.

Members of the public wishing to attend must RSVP to the contact person on this notice by March 5, 2012 and bring a photo ID to facilitate security check-in at the building entrance.

Any interested person may file written comments by sending an email to NICHDDirectorsOffice@mail.nih.gov, by March 16, 2012. The statement should include the individual's name and, when applicable, professional affiliation.

Dated: February 14, 2012.
Alan E. Guttmacher,
Director, Eunice Kennedy Shriver National Institute of Child Health and Human Development, National Institutes of Health.

[FR Doc. 2012-4224 Filed 2-22-12; 8:45 am]

BILLING CODE 4140-01-P